DEPARTMENT OF TRANSPORTATION

Federal Aviation Administration

14 CFR Part 71

[Docket No. FAA-2023-1021; Airspace Docket No. 22-AWA-6]

Establishment of Class C Airspace and Removal of Class D Airspace; Harrisburg International Airport, PA

AGENCY: Federal Aviation Administration (FAA), DOT.

ACTION: Notice of proposed rulemaking (NPRM).

SUMMARY: This action proposes to establish Class C airspace, and remove Class D airspace, at the Harrisburg International Airport (MDT), PA. The FAA is proposing this action to enhance the efficient management of air traffic operations and reduce the potential for midair collision in the MDT terminal area. The Class C airspace would replace the existing Class D airspace at MDT. In addition, the non-regulatory Terminal Radar Service Area (TRSA) would be removed.

DATES: Comments must be received on or before October 10, 2023.

ADDRESSES: Send comments identified by FAA Docket No. FAA-2023-1021 and Airspace Docket No. 22-AWA-6 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airspace structure as necessary to enhance the safe and efficient flow of air traffic within the Harrisburg, PA, terminal area.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Class C airspace areas and Class D airspace areas are published in paragraphs 4000 and 5000, respectively, of FAA Order JO 7400.11G, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

Harrisburg International Airport (MDT) is located 8 miles southeast of the city of Harrisburg, PA. Capital City Airport (CXY) is located approximately 3.5 miles northwest of MDT. The MDT Airport Traffic Control Tower (ATCT) consists of a combined tower and Terminal Radar Approach Control (TRACON) facility operating 24 hours a day. CXY has a part-time ATCT that operates 0700 to 2100 local time, daily. Class D airspace, extending from the surface to and including 2,800 feet above mean sea level (MSL), surrounds both airports. During times when the CXY ATCT is closed, the CXY Class D airspace reverts to a Class E surface area.

A Terminal Radar Service Area (TRSA) overlies the two contiguous Class D airspace areas and extends approximately 15 nautical miles (NM) east and west of MDT, within the TRACON's delegated airspace.

The airspace surrounding MDT and CXY is complex and congested due to the location and uniqueness of the two airport configurations. There are five airports with operational ATCTs in and around the MDT terminal area. There are 11 non-towered satellite airports, and 5 hospital heliports with instrument approach procedures under the jurisdiction of MDT ATCT. Restricted Area R-5802 is located approximately 11 NM northeast of MDT. R-5802 is in use nearly every day, and MDT ATCT frequently controls military aircraft into and out of that airspace.

Pilots operating under visual flight rules (VFR) frequently navigate above the MDT and CXY Class D airspace areas by following very popular routes created by the Susquehanna River and the various interstate highways interspersed throughout the area. Due to their proximity, aircraft operations at MDT and CXY may penetrate the current Class D airspace boundaries of the other. Consequently, air traffic control (ATC) must often sequence and separate the aircraft landing and departing MDT and CXY as if they were a single airport.

The runway configurations at MDT and CXY, plus the proximity to other airports, local geography, restricted airspace, flight training, skydiving, and the mix of jet and propeller aircraft combine to make the airspace in the MDT terminal area a web of intersecting flight paths. Additionally, significant numbers of VFR aircraft, which are not in contact with ATC, operate throughout the MDT and CXY terminal area. Without such communications, air traffic controllers are unaware of nonparticipating pilots' intentions. Heading and/or altitude changes made by nonparticipating VFR aircraft are unpredictable, and this often requires controllers to take action to avoid possible conflicts with other aircraft under their control. With the current airspace configuration, there is no requirement for VFR pilots to contact ATC when operating beyond the boundaries of the MDT and CXY Class D airspace areas.

Class C Airspace and Terminal Radar Service Areas (TRSA)

Class C airspace areas are designated under Title 14, Code of Federal Regulations (CFR) part 71 rulemaking to improve aviation safety by reducing the risk of midair collisions in the terminal area and enhancing the management of air traffic operations therein. Class C airspace is designed to keep ATC informed of all aircraft operating within the Class C airspace. Pilots are required to establish two-way radio communications with ATC prior to entering Class C airspace, and they must maintain communications while operating in Class C airspace. In addition, pursuant to 14 CFR part 91, no person may operate an aircraft in Class C airspace unless the aircraft is equipped with an operational transponder and Automatic Dependent Surveillance—Broadcast (ADS-B) Out.

TRSAs are not officially designated by airspace rulemaking action. They are not incorporated in 14 CFR part 71, nor are there any TRSA-specific operating rules in 14 CFR part 91. TRSAs are established around designated airports where ATC provides radar vectoring, sequencing, and separation services on a full-time basis for all instrument flight rules (IFR) and participating VFR aircraft. Pilots operating under VFR are encouraged to contact ATC to avail themselves of TRSA services. However, VFR pilot participation in TRSA services is voluntary. The limitations of the TRSA (e.g., voluntary participation by VFR pilots) often contributes to nonparticipating VFR aircraft coming in direct conflict with higher-performance jets landing or departing MDT or CXY.

Need for Class C Airspace at MDT

To qualify for Class C airspace, an airport must be served by an operational ATCT and a radar approach control; and meet one of the following criteria:

An annual instrument operations count of 75,000 at the primary airport; or

An annual instrument operations count of 100,000 at the primary and secondary airports; or

An annual count of 250,000 enplaned passengers at the primary airport.

MDT qualifies as a candidate for Class C airspace based on its annual enplaned passenger count. MDT's enplaned passenger count for calendar year (CY) 2021 (the latest year for which validated figures are available) was 512,251. This figure represents a 64.05% increase over CY 2020 numbers. Other factors considered are traffic volume, airspace complexity, and the potential for midair collision in the terminal area.

The existing TRSA does not adequately support the volume and diversity of aircraft operating in the congested MDT terminal area. Currently, there is no requirement for VFR pilots to establish radio contact with ATC outside of the existing MDT and CXY Class D airspace areas. Since participation in TRSA services is voluntary on the part of VFR pilots, the TRSA does not provide ATC with an adequate level of flight information or control required to segregate IFR and VFR aircraft operating in this complex airspace environment. VFR aircraft that are not in contact with ATC routinely operate in the area, and in so doing they cross MDT and CXY arrival and departure corridors and/or make unexpected heading and/or altitude changes. These aircraft frequently operate at altitudes that may conflict with aircraft arriving or departing MDT. As a result, IFR aircraft must alter their flight path or altitude thereby disrupting the orderly flow of MDT arrivals or departures. Additionally, air traffic controller workload is increased due to the need for additional vectoring or altitude changes of MDT arrivals and departures to ensure separation from the unknown VFR aircraft that are not communicating with ATC. Under this proposal, those VFR aircraft operating in the vicinity of the MDT arrival and departure corridors would be required to establish contact with ATC to ensure controllers are aware of pilots' intentions and promote increased safety and efficiency.

Benefits of Class C Airspace

All pilots would benefit from the enhanced safety provided by Class C services, which include separation, traffic advisories, and safety alerts. In addition, Class C airspace would:

—Enhance safety by lessening the likelihood of MDT arrivals and departures encountering unknown aircraft that are not in contact with ATC, thereby reducing the potential for midair collision;

—Reduce air traffic controller workload by lessening the need for additional vectoring of arrivals and departures to avoid conflicts with unknown VFR aircraft; and

—Minimize disruptions to the orderly flow of arrivals and departures to ensure pilots can fly stabilized approaches during a critical phase of flight.

Pre-NPRM Public Input

In 2019, the FAA initiated action to form an Ad Hoc Committee (Committee) to seek input and recommendations from representatives of affected aviation users for the FAA to consider in designing a proposed Class C airspace area at MDT. The Committee consisted of a diverse sampling of local aviation users, including representatives from the Pennsylvania Bureau of Aviation, Susquehanna Area Regional Airport Authority (SARAA), local airports and flight schools, Piedmont Airlines, the Experimental Aircraft Association (EAA), Life Lion Emergency Medical Services, and Corporate Flight Departments.

Ad Hoc Committee Recommendations

The Committee met throughout 2020 and submitted its report to the FAA in February 2021. The committee made a counterproposal to the traditional circular Class C shape being considered by the FAA. The Committee's design consists of a surface area generally within a 5 NM radius of MDT; and a rectangular shape aligned primarily along MDT's runway 13/31 approach/departure corridors extending 15 NM northwest and southeast of MDT. The FAA studied the Committee's design and determined that it would meet the needs of enhanced safety and efficiency in the MDT terminal area and would actually lessen the impact on satellite airports as opposed to the preliminary circular design. The FAA proposes to adopt the Committee's design as described in this proposal.

The Committee recommended that the CXY ATCT operating hours be extended from the current 0700 to 2100, local time, to 0600 to 2200, local time, at least from April through September, to mitigate the potential for conflicts between CXY traffic and MDT arrivals and departures. When the CXY ATCT is closed, the CXY Class D airspace reverts to Class E airspace. MDT Approach Control provides services and has radio communications coverage with aircraft on the ground at CXY. Pilots at CXY could contact MDT Approach prior to departure to request entry into the Class C airspace.

The decision to change the ATCT operating hours is governed by a separate, stand-alone process, and is outside the scope of this rulemaking action. However, the FAA believes that the proposed Class C airspace would provide adequate space for CXY operations while enhancing safety for operations into and out of MDT.

The Committee expressed concern that the current TRSA allows nonparticipating aircraft to loiter or transition through the MDT arrival and departure corridors creating conflicts between IFR and nonparticipating VFR aircraft.

The proposed Class C airspace would require all aircraft to establish radio communications with ATC before entering the airspace, and to maintain communications while operating in the airspace. This would ensure that controllers are aware of, and would provide Class C services to, all aircraft operating in the Class C airspace thereby reducing the potential for conflicts with unknown aircraft.

The Committee emphasized that the Class C design should minimize the impact on CXY and other satellite airport operations.

The proposed design includes a cutout within a 1.5 NM radius northeast of CXY, and a shelf on the southwest side of the Class C surface area to accommodate CXY operations beyond the lateral boundary or beneath Class C airspace. The proposed 2,600-foot Class C floor, over and southwest of CXY, would allow CXY traffic to arrive and depart beneath the Class C airspace shelf away from MDT traffic flows. This design would provide adequate space to permit operations by pilots who do not wish to receive Class C services, or aircraft not properly equipped to enter that airspace while providing enhanced safety for operations into and out of MDT. There were also concerns that the CXY ATCT may extend aircraft in the runway 30 traffic pattern into the MDT Class C airspace for spacing. CXY ATCT will adjust the upwind/downwind traffic pattern legs as needed to keep those aircraft clear of the Class C. To accommodate non-participating aircraft (including aircraft not equipped with ADS-B Out) operating to/from CXY runway 08, the proposed class C design excludes a 1.5 NM radius around CXY from the Class C surface area northeast of CXY airport. This exclusion would allow operations to/from runway 08 without entering Class C airspace. The proposed Class C design would enable operations at CXY to continue largely unchanged. When the CXY ATCT is closed, pilots departing CXY to the east who wish to enter Class C airspace may contact MDT Approach prior to takeoff or establish communications with Approach before entering the Class C area.

Regarding the various satellite airports in the vicinity of MDT, only Donegal Springs airport (N71) lies beneath a Class C shelf (2,100 feet MSL). The shelf also allows non-ADS-B equipped aircraft to operate into and out of LNS without entering Class C airspace. MDT will continue supporting the aerobatic box and skydiving operations at N71. Where necessary, a letter of agreement (LOA) with the stakeholders will be developed to define the procedures for these operations in Class C airspace.

The Committee expressed concern that aircraft operating into and out of CXY during times when the CXY ATCT closes could conflict with MDT traffic and VFR nonparticipating traffic.

The proposed airspace design provides sufficient protection for existing flight patterns, including the extended downwind and final flight paths of heavy aircraft that routinely operate to and from MDT. The flight paths into and out of VFR airports located outside of the proposed Class C remain accessible to nonparticipating aircraft.

The Committee suggested that visual landmarks be associated with the Class C boundaries to assist pilots identifying the boundaries or maintaining clearance from the Class C airspace.

The proposed boundaries are situated near a number of visual landmarks to assist pilots with boundary identification. For example, the “S turn” in the Susquehanna River and the ridgeline identifies the northwestern airspace boundary. Founders Hall is a notable landmark used when operating at Reigle Field (58N). It lies just north of the northern lateral boundary of the Class C airspace. Other boundaries are configured so that major highways, such as the Pennsylvania Turnpike, I-81, and Carlisle Pike can be used to reference the airspace boundaries visually. In addition, bridges over the Susquehanna River, and other landmarks such as Roundtop Ski Mountain, and Pinchot Lake are also available to mark the southern boundary of Class C airspace. These landmarks, in combination with the various Class C shelves, would assist pilots seeking to avoid the Class C airspace.

Discussion of Informal Airspace Meeting Comments

As announced in the Federal Register on June 4, 2021, the FAA held an informal airspace meeting on August 18, 2021 (86 FR 29969). The meeting was held virtually via the Zoom platform and was simultaneously broadcast on the FAA's Facebook and YouTube channels. A total of 103 people logged into the Zoom meeting. The meeting was also advertised through the FAA's Flight Standards FAA Safety Team (FAAST) distribution list. The purpose of the meeting was to provide interested airspace users with an opportunity to present their views and offer recommendations regarding the proposed establishment of Class C airspace at MDT. The meeting began with a presentation of the proposed Class C airspace by the MDT Air Traffic Manager. Eight attendees offered comments at the meeting. Four of the eight speakers expressed support for the Class C proposal. One of the eight opposed the MDT Class C establishment based on the aircraft equipage requirements. Three of the eight asked questions rather than making a presentation. The following topics were discussed.

Attendees expressed concern that the requirement to equip aircraft with ADS-B Out for flight within Class C airspace would exclude many operators from access to the airspace. Commenters stated that pilots operating non-ADS-B equipped aircraft should be given reasonable opportunity to access Class C airspace, such as via LOAs.

In order to ensure access for all operators, the proposed Class C configuration accommodates aircraft not equipped with ADS-B by including various shelves designed to allow pilots to navigate through the area and access airports, while remaining outside Class C airspace. The FAA designed the shelves and area boundaries to lessen the impact on satellite airports. Generally, aircraft not equipped with ADS-B Out would be required to fly around or below the proposed Class C airspace.

ADS-B Out is a key component in the FAA's multibillion-dollar Next Generation Air Transportation System (NextGen) program. NextGen is designed to modernize the U.S. National Airspace System (NAS) in order to meet future demand, reduce delays, and improve safety. ADS-B provides more accurate information to air traffic controllers and pilots. The FAA mandated the requirement for ABS-B Out equipage in Class C airspace by rulemaking in 14 CFR part 91.¹

¹ Automatic Dependent Surveillance-Broadcast (ADS-B) Out Performance Requirements to Support Air Traffic Control (ATC) Service, Final Rule, 75 FR 30193 (May 28, 2010).

Attendees were also concerned that establishing Class C airspace may cause a reduction in flight training and loss of business in the MDT area. Additionally, attendees expressed that the Class C might discourage pilots from other airports who come to this airspace to gain experience operating with both ATCTs and approach control facilities.

The FAA does not agree. For aircraft capable of operating in Class C airspace, there would be few operational differences, thus no impact. For aircraft not equipped to fly in Class C airspace, Class C developers gave special consideration to the dimensions and altitudes of the proposed airspace to ensure operators can fly the ILS runway 08 approach at CXY, and the ILS runway 08 at LNS without entering Class C airspace. Area Navigation (RNAV) approaches at Donegal Springs Airpark (N71) and Carlisle Airport (N94) are also outside of Class C. However, the RNAV runway 26 at CXY and the RNAV-A approach at Reigle Field (58N) are in Class C airspace because they conflict with MDT arrivals and departures. Alternatively, many other nearby airports such as York (THV), Lancaster (LNS), and Reading (RDG), have instrument approaches that can be used for flight training or alternates to MDT. Considering the 2,600-foot Class C shelf over and southwest of CXY, student pilots should be able to continue receiving similar training at CXY as they do today without having to enter Class C airspace. The establishment of Class C airspace at MDT could increase local training possibilities by providing students with the opportunity to learn and operate in Class C as well as Class D airspace. This experience could also be beneficial to pilots planning flights to Class C airports beyond the MDT terminal area.

A student pilot was concerned about the impact to flight training of the 2,100 and 2,600-foot Class C shelves above the Carlisle practice area, an area heavily used for ground reference maneuvers and flight training. The pilot was concerned the shelves could cause aircraft attempting to avoid the Class C airspace to further congest the training area and potentially force aircraft to fly low over populated areas.

The Carlisle practice area has no published or defined boundaries. It is a locally used, unofficial designation that helps pilots communicate their intentions to ATC. MDT Approach Control is familiar with the area and provides services, such as traffic advisories, in the Carlisle practice area today. ATC typically considers the Carlisle practice area to be west of Carlisle airport (N94), which is already west of the proposed Class C airspace. The area west of a straight line between N94 and the Harrisburg Very High Frequency (VHF) Omnidirectional Range/Tactical Air Navigation (VORTAC) is beyond the lateral boundaries of the proposed Class C and is safe for flight training. Aircraft performing maneuvers in the practice area should remain west of the proposed Class C airspace to remain safely separated from aircraft arriving and departing CXY and MDT. Pilots who wish to operate in the western portion of the proposed Class C would be permitted to do so when in communication with ATC.

Several commenters were concerned about the proposed Class C airspace effects on CXY's traffic pattern operations. They noted that frequently, CXY ATCT extends the downwind leg for runway 30 beyond the boundary of CXY's Class D airspace and into MDT's Class D airspace. Currently, this is coordinated between controllers at CXY and MDT. However, with the proposed Class C airspace at MDT, pilots might worry about entering the Class C airspace without the required equipment, and possibly receive a violation, or pilots could put themselves in an unsafe position trying to avoid the airspace. Another concern was being directed to make a right 360-degree turn over elevated terrain and antennas south of CXY near the 1,500-foot MSL traffic pattern altitude.

MDT ATCT conducted a study of the CXY runway 30 operation. They reviewed 100 hours of recordings from a sampling of 7 different days that were selected due to their high traffic count and likelihood of congestion. During the study period, more than 250 operations were conducted to/from runway 30. Of the 250, only 7 aircraft were extended beyond the CXY Class D boundary. Three of the 7 aircraft performed a 360-degree turn on the downwind leg prior to extending beyond the CXY Class D airspace. Pilots continue to perform this maneuver in the airspace today. The FAA does not anticipate that the airspace change from Class D to Class C will impact the safety of a pilot's ability to perform that maneuver. MDT and CXY ATCTs have no safety concerns with the traffic pattern operations for CXY runway 12/30. The traffic pattern operation will not change nor be affected by the proposed Class C airspace. Regarding ATC extending an aircraft into the Class C airspace, as stipulated in 14 CFR part 91, no person may operate an aircraft contrary to an ATC instruction, except in an emergency. Also, any pilot who is uncomfortable with flying in proximity to the tall antennas south of CXY can be provided alternate instructions (e.g., extend upwind or downwind).

Another commenter noted that the published missed approach procedure for the CXY ILS runway 08 approach would enter the proposed Class C airspace.

Currently, during normal operations, ATC does not assign the published missed approach procedure for the ILS runway 08 approach. Instead, ATC routinely issues alternate missed approach instructions in order to de-conflict the CXY runway 08 missed approach segment from aircraft executing the ILS runway 13 approach at MDT, and MDT runway 13 departures that are turning outbound to the northwest. Pilots can expect a west or south turn out at the HORVI intersection identical to the standard procedures used today. ATC will issue these instructions regardless of whether the CXY ATCT is open or closed. Additionally, VFR aircraft conducting a practice instrument approach to CXY runway 08 are not authorized to fly the published missed approach unless approved by ATC. Other segments of the CXY ILS runway 08 approach remain beyond Class C airspace; thus, the approach is still available to non-ADS-B equipped aircraft with the assigned the alternate climb-out instructions.

Several commenters believed that the low floors of the proposed Class C airspace shelves could potentially force aircraft to fly low over heavily populated areas. They stated that requiring aircraft to maneuver at low altitudes under the shelves is concerning. Having additional altitude would provide pilots with more time to make decisions, especially in emergency situations.

While the FAA recognizes that flying at higher altitudes increases the time to respond to an unexpected emergency situation, the FAA developed the Class C shelf floors in the proposed design as high as possible to enable the most access to nonparticipating aircraft while retaining the margin of safety required between participating aircraft and those transitioning under the Class C airspace. The shelves in the proposed design permit safe flight in compliance with 14 CFR part 91. The proposed Class C configuration does not obligate any pilot to fly at a lower altitude or in an unsafe manner. Ultimately, it is the pilot's responsibility to evaluate all factors that could affect a planned flight and determine the safest course of action, whether that be circumnavigating the Class C, flying beneath the area, or establishing communication with ATC to enter the Class C and receive ATC services. The proposed Class C airspace would increase safety by reducing the risk of midair collision in the terminal area. The change would also ensure that aircraft choosing not to participate in Class C services remain safe and segregated from other aircraft operating in the congested airspace around MDT.

Two pilots were concerned about the proposed airspace change at MDT from Class D to Class C. One pilot suggested that the FAA consider expanding the MDT Class D airspace as an alternative to establishing Class C airspace. That would provide the required communication with ATC without imposing the equipment mandates associated with Class C airspace.

Class D airspace is designated to provide controlled airspace for terminal VFR and IFR operations at airports having an operational ATCT. While Class D airspace does require communication with ATC, Class D services do not include radar traffic advisories and separation services that are provided in Class C airspace. A large, expanded Class D airspace around MDT, as suggested, would be contrary to the criteria for establishing Class D airspace, and would not facilitate the ATC services provided in Class C airspace that are essential to reducing the potential for midair collision in the busy MDT terminal area. Therefore, the FAA is unable to adopt the suggestion for an expanded Class D airspace area at MDT.

Two aviation organizations commended the collaborative approach the FAA used in this proposal process but stated that many of their members remain unaware of the proposed establishment of Class C airspace at MDT. They recommended wider communications to the local community.

The FAA's outreach efforts regarding the proposed MDT Class C airspace are described in the Ad Hoc Committee and Informal Airspace Meeting sections of this notice. A recording of the Informal Airspace Meeting is available for the public to watch on the FAA's YouTube channel at www.faa.gov/air_traffic/community_engagement/mdt/. Additionally, this NPRM establishes a 60-day comment period during which the public can submit their views about the proposal. The FAA will continue to publicize the proposal and remains receptive to feedback.

The Proposal

The FAA is proposing an amendment to 14 CFR part 71 to establish Class C airspace at MDT and remove the existing Class D airspace area at MDT. The latitude/longitude coordinates for the MDT and CXY airport reference points (ARP) would be updated to reflect the current Airport Master Records data. Also, the existing MDT TRSA would be removed and replaced by the Class C airspace area. The FAA is proposing this action to enhance the safe and efficient use of airspace and reduce the risk of midair collision in the MDT terminal area (see the attached chart).

The proposed Class C airspace area would consist of six sub-areas identified by the letters A through F, described as follows:

Area A: Area A would extend from the surface up to 4,400 feet MSL within a 5 NM radius of MDT, except for that portion described as Area E, below, and excluding that area within a 1.5 NM radius of CXY, northeast of the airport. Area A would replace the existing Class D airspace at MDT.

Area B: Area B would extend from 1,600 feet MSL up to 4,400 feet MSL. It would consist of that airspace within 3.5 miles either side of the 117° bearing from MDT, between the 5 mile and 10-mile radii from MDT.

Area C: Area C would extend from 1,600 feet MSL up to 4,400 feet MSL. It would be located northwest of MDT between the 5- and 10-mile radii of MDT and bounded on the south side by Area E. Area C would overlie a portion of the CXY Class D airspace area.

Area D: Area D would extend from 2,100 feet MSL up to 4,400 feet MSL. Area D would be bounded as follows: on the northwest end by the 15-mile radius of MDT northwest of MDT; on the northeast side by a line extending from the intersection of the 15-mile radius of MDT and the MDT's 325° bearing, direct to the intersection of MDT's 089° bearing and the 15-mile radius of MDT southeast of MDT; and on the southwest side, by a line extending from lat. 40°01′45″ N, long. 76°40′43″ W, to lat. 40°05′32″ N, long. 76°50′21″ W, excluding the airspace contained in Areas A, B, C, E, and F. Area D's 2,100-foot floor would create a shelf in the vicinity of Donegal Springs Airpark (N71) allowing for operations beneath the Class C airspace.

Area E: Area E would extend from 2,600 feet MSL up to 4,400 feet MSL south and west of CXY. Area E would overlie part of the CXY Class D airspace area to the south and west of CXY. Area E would allow aircraft to operate to and from CXY without the need for pilots to enter Class C airspace.

Area F: Area F would extend from 2,600 feet MSL up to 4,400 feet MSL. The proposed Area F floor creates a shelf below which pilots could fly instrument approaches to Lancaster Airport (LNS) runway 08, without having to enter Class C airspace.

Full descriptions of the MDT Class C subareas are listed in the amendments to part 71 set forth below.

The FAA believes that all users would benefit from participation in the proposed Class C services around MDT, which include sequencing of all aircraft to the primary airport; standard IFR services to IFR aircraft; separation, traffic advisories, and safety alerts between IFR and VFR aircraft; and mandatory traffic advisories and safety alerts between VFR aircraft.

The FAA strongly recommends that pilots participate in the Class C airspace and receive ATC services. Communication with ATC is critical in order to provide controllers with awareness of a pilot's intended flight path. With that predictability, ATC can issue safe, logical instructions to ensure the safety of all participating aircraft.

As previously stated, the MDT Class D airspace area and the MDT TRSA would be removed under this proposal. Any required amendments to the CXY Class D airspace and the CXY Class E surface area would be addressed in a separate rulemaking action.

Paperwork Reduction Act

The Paperwork Reduction Act of 1995 (44 U.S.C. 3507(d)) requires that the FAA consider the impact of paperwork and other information collection burdens imposed on the public. The FAA has determined that there is no new information collection requirement associated with this proposed rule.

Regulatory Notices and Analyses

Regulatory Notices and Analyses Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). The current threshold after adjustment for inflation is $177 million, using the most current (2022) Implicit Price Deflator for the Gross Domestic Product.

In conducting these analyses, the FAA has determined that this proposed rule: (1) is expected to have a minimal cost impact, (2) is not a “significant regulatory action” as defined in section 3(f) of Executive Order 12866, (3) is not significant under DOT's administrative procedure rule on rulemaking at 49 CFR 5.13; (4) not have a significant economic impact on a substantial number of small entities; (5) does not create unnecessary obstacles to the foreign commerce of the United States; and (6) does not impose an unfunded mandate on state, local, or tribal governments, or on the private sector by exceeding the threshold identified above. These analyses are summarized below.

This action proposes to establish Class C airspace at MDT in place of the existing Class D airspace at MDT. The latitude/longitude coordinates for the MDT and CXY ARP would be updated to reflect the current Airport Master Records data. Also, the existing MDT TRSA would be removed and replaced by the Class C airspace area.

The airspace surrounding MDT and CXY is heavily trafficked due to the five airports with operational ATCTs in and around the MDT terminal area. In addition, 11 non-towered satellite airports, 5 hospital heliports, and military aircraft nearby contribute to the increasing traffic. The FAA determined that changes in this proposed rule would enhance the efficient management of air traffic operations and reduce the potential for midair collision in the MDT terminal area. The proposal would reduce air traffic controller workloads by lessening the need for additional vectoring of arrivals and departures to avoid conflicts with unknown VFR aircraft and minimize disruptions to the orderly flow of arrivals and departures to ensure pilots can fly stabilized approaches during a critical phase of flight. Pilots would also benefit from the enhanced safety provided by Class C services that include separation, traffic advisories, and safety alerts.

The FAA considered and accepted recommendations from an Ad Hoc Committee and informal airspace meetings from stakeholders. The committee made a counterproposal to the traditional circular Class C shape being considered by the FAA. The Committee's design consists of a surface area generally within a 5 NM radius of MDT; and a rectangular shape aligned primarily along MDT's runway 13-31 approach/departure corridors and extending 15 NM northwest and southeast of MDT. The FAA studied Committee's design and determined that it would meet the needs of enhanced safety and efficiency in the MDT terminal area and would lessen the impact on satellite airports as opposed to the preliminary circular design.

Class C airspace areas are designated under 14 CFR part 71 rulemaking to improve aviation safety by reducing the risk of midair collisions in the terminal area and enhancing the management of air traffic operations therein. Class C airspace is designed to keep ATC informed of all aircraft operating within the Class C airspace. Pilots are required to establish two-way radio communications with ATC prior to entering Class C airspace, and they must maintain communications while operating in Class C airspace. In addition, pursuant to 14 CFR part 91, no person may operate an aircraft in Class C airspace unless the aircraft is equipped with an operational transponder and ADS-B Out. VFR operators would only need to make minor adjustments to accommodate the proposed Class C airspace by flying under or around it. Therefore, the FAA expects the proposal would result in minimal cost to VFR operators. The FAA requests comments on the benefits and costs of this proposal to inform the final rule.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration. The RFA covers a wide range of small entities, including small businesses, not-for-profit organizations, and small governmental jurisdictions.

Agencies must perform a review to determine whether a rule will have a significant economic impact on a substantial number of small entities. If the agency determines it will, it must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

The proposed rule would replace Class D airspace with Class C airspace at MDT. The FAA is proposing this action to enhance the efficient management of air traffic operations and reduce the potential for midair collision in the MDT terminal area. The change would affect general aviation operators using the proposed Class C airspace. Operators flying VFR would need to make small adjustments to their flight paths to avoid the modified Class C airspace, so pilots could operate without contacting ATC. Additionally, some VFR operators are currently doing so to avoid heavy traffic. Therefore, as provided in section 605(b), the head of the FAA certifies that this rulemaking would not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action”. The FAA currently uses an inflation-adjusted value of $177 million in $100 million. This proposed rule does not contain such a mandate; therefore, the requirements of Title II of the Act do not apply.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of the Federal Aviation Administration Order JO 7400.11G, Airspace Designations and Reporting Points, dated August 19, 2022, and effective September 15, 2022, is amended as follows:

Paragraph 4000 Subpart C-Class C Airspace.

* * * * *

AEA PA C Harrisburg, PA [New]

Harrisburg International Airport, PA

(Lat. 40°11′35″ N, long. 76°45′45″ W)

Capital City Airport

(Lat. 40°13′02″ N, long. 76°51′05″ W)

Boundaries

Area A. That airspace extending upward from the surface to and including 4,400 feet MSL bounded by a line beginning at lat. 40°12′23″ N, long. 76°48′37″ W, thence direct to the intersection of the Capital City Airport's 106° bearing and 1.5-mile radius, thence counterclockwise along the Capital City Airport's 1.5-mile radius to the Harrisburg International Airport's 5-mile radius, thence clockwise along the Harrisburg International Airport's 5-mile radius to the intersection of the 5-mile radius and a line bearing 191° from a point at lat. 40°12′23″ N, long. 76°48′37″ W, thence direct to the point of beginning.

Area B. That airspace extending upward from 1,600 feet MSL to and including 4,400 feet MSL extending from the Harrisburg International Airport's 5-mile radius, and within 3.5 miles each side of the Harrisburg International Airport's 117° bearing to the Harrisburg International Airport's 10-mile radius southeast of the Harrisburg International Airport.

Area C. That airspace extending upward from 1,600 feet MSL to and including 4,400 feet MSL bounded by a line beginning at the intersection of the Capital City Airport's 106° bearing and 1.5-mile radius direct to lat. 40°14′13″ N, long. 76°53′23″ W direct to lat. 40°14′12″ N, long. 76°56′05″ W thence direct to lat. 40°14′12″ N, long. 76°58′22″ W, thence clockwise along the Harrisburg International Airport's 10-mile radius to lat. 40°18′58″ N, long. 76°54′35″ W, thence direct to the Harrisburg International Airport's 341° bearing and the Harrisburg International Airport's 5-mile radius, thence counterclockwise along the Harrisburg International Airport's 5-mile radius to the intersection of the Capital City Airport's 1.5-mile radius, thence clockwise along the Capital City Airport's 1.5-mile radius to the point of beginning.

Area D. That airspace extending upward from 2,100 feet MSL to and including 4,400 feet MSL, within an area bounded by a line beginning at lat. 40°14′12″ N, long. 76°58′22″ W, thence direct to lat. 40°14′11″ N, long. 77°05′03″ W, thence clockwise along the Harrisburg International Airport's 15-mile radius to the intersection of the Harrisburg International Airport's 325° bearing, thence direct to the intersection of Harrisburg International Airport's 089° bearing and the Harrisburg International Airport's 15-mile radius, thence clockwise along the airport's 15-mile radius to the intersection of the Harrisburg International Airport's 113° bearing, thence direct to lat. 40°01′45″ N, long. 76°40′43″ W, thence direct to lat. 40°05′32″ N, long. 76°50′21″ W, thence direct to lat. 40°12′23″ N, long. 76°48′37″ W, thence direct to the point of beginning; excluding that airspace contained in Areas A, B, and C.

Area E. That airspace extending upward from 2,600 feet MSL to and including 4,400 feet MSL bounded by a line beginning at lat. 40°12′23″ N, long. 76°48′37″ W, thence direct to lat. 40°05′32″ N, long. 76°50′21″ W, thence direct to the Harrisburg International Airport's 269° bearing and Harrisburg International Airport's 15-mile radius, thence clockwise along the Harrisburg International Airport's 15-mile radius to lat. 40°14′11″ N, long. 77°05′03″ W, thence direct to lat. 40°14′12″ N, long. 76°58′22″ W thence direct to lat. 40°14′12″ N, long. 77°56′05″ W, thence direct to lat. 40°14′13″ N, long. 76°53′23″ W, thence direct to lat. 40°12′37″ N, long. 76°49′12″ W, thence direct to the point of beginning.

Area F. That airspace extending upward from 2,600 feet MSL to and including 4,400 feet MSL bounded by a line beginning at the intersection of the Harrisburg International Airport's 113° bearing and the airport's 15-mile radius, thence clockwise along the Harrisburg International Airport's 15-mile radius to the intersection of the airports 145° bearing and the airport's 15-mile radius, thence direct to lat. 40°01′45″ N, long. 76°40′43″ W, thence direct to the point of beginning.

* * * * *

Paragraph 5000—Subpart D—Class D Airspace

* * * * *

AEA PA D Harrisburg International Airport, PA [Removed]

* * * * *

BILLING CODE 4910-13-P

Issued in Washington, DC, on August 4, 2023.
Karen L. Chiodini,
Acting Manager, Rules and Regulations Group.

[FR Doc. 2023-17074 Filed 8-10-23; 8:45 am]

BILLING CODE 4910-13-C